DEPARTMENT OF JUSTICE

Notice of Lodging Proposed Consent Decree

In accordance with Departmental Policy, 28 CFR 50.7, notice is hereby given that a proposed Consent Decree in United States v. Stonybrook Land, LLC, Civil Action No. 1:13-CV-1119 (TJM/RFT), was lodged with the United States District Court for the Northern District of New York on September 10, 2013.

This proposed Consent Decree concerns a complaint filed by the United States against Defendant Stonybrook Land, LLC, pursuant to Clean Water Act Section 404(s), 33 U.S.C. 1344(s), to obtain injunctive relief from and impose civil penalties against the Defendant for violating the Clean Water Act by discharging pollutants without a permit into waters of the United States. The proposed Consent Decree resolves these allegations by requiring the Defendant to perform mitigation and to pay a civil penalty.

The Department of Justice will accept written comments relating to this proposed Consent Decree for thirty (30) days from the date of publication of this Notice. Please address comments to Assistant United States Attorney Adam J. Katz, James T. Foley Courthouse, 445 Broadway, Room 218, Albany, NY 12207, and refer to United States v. Stonybrook Land, LLC, USAO # 2010V00052.

The proposed Consent Decree may be examined at the Clerk's Office of the United States District Court for the Northern District of New York, James T. Foley Courthouse, 445 Broadway, Suite 509, Albany, NY 12207. In addition, the proposed Consent Decree may be examined electronically at http://www.justice.gov/enrd/Consent_Decrees.html.

Cherie L. Rogers,
Assistant Section Chief, Environmental Defense Section, Environment and Natural Resources Division.

[FR Doc. 2013-22635 Filed 9-17-13; 8:45 am]

BILLING CODE P